DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Automated Export System.

OMB Control Number: 0607-0152.

Form Number(s): None.

Type of Request: Revision of a currently approved collection.

Burden Hours: 910,115.

Number of Respondents: 275,843.

Average Hours per Response: 3 minutes per AES transaction.

Needs and Uses: The Census Bureau is requesting continued clearance with revisions for the Automated Export System (AES) program. The AES record provides the means for collecting data on U.S. exports. The Census Bureau requires mandatory filing of all export information via the AES. Public Law 107-228 of the Foreign Trade Relations Act of 2003 mandates this requirement. This law authorizes the Secretary of Commerce with the concurrences of the Secretary of State and the Secretary of Homeland Security to require all persons who file export information according to Title 13, United States Code (U.S.C.), Chapter 9, to file such information through the AES.

The regulatory provisions for the collection of these data are contained in the Foreign Trade Regulations (FTR), Title 15, Code of Federal Regulations (CFR), Part 30. The official export statistics collected from these tools provide the basic component for the compilation of the U.S. position on merchandise trade. These data are an essential component of the monthly totals provided in the U.S. International Trade in Goods and Services Press Release, a principal economic indicator and a primary component of the Gross Domestic Product (GDP).

These data collected from the AES record are also used for export control purposes under Title 50, U.S.C., Export Administration Act, to detect and prevent the export of certain items by unauthorized parties or to unauthorized destinations or end users.

Since 2007, the Census Bureau and the U.S. Customs and Border Protection (CBP) have implemented the following enhancements to the AES: (1) modified Bureau of Industry and Security Export Control Classification Numbers (ECCNs); (2) developed country of destination drop down menu selection box; (3) developed verify messages for shipments destined to Iran, North Korea, Sudan, Cuba, Pitcairn Island, Iceland and Nicaragua; (4) modified security requirements for AESDirect accounts; (5) eliminated the Social Security Number (SSN) as a valid identification type; (6) developed a shipment manager screen; (7) added warnings to filers when they are submitting shipments in the education/test region and when they are re-using a Shipment Reference Number; (8) upgraded the AES Broadcast messaging system to a self-managed software with almost immediate dissemination; and (9) upgraded AESDirect servers and system to a more current and scalable infrastructure. With the upcoming publication of the Final Rule, Foreign Trade Regulations (FTR): Mandatory Automated Export System Filing for All Shipments Requiring Shipper's Export Declaration (SED) Information: Proposed Substantive Changes and Corrections, the following enhancements will be implemented in the AES: (1) Develop ultimate consignee type drop down menu selection box; and (2) develop license value fields for licensed shipments only.

The changes identified in this Final Rule will require the addition of two data elements in the AES. The added data elements include the ultimate consignee type and the license value. The ultimate consignee type is a mandatory data element and is selected from a drop down menu based on the knowledge the exporter has at the time of filing. If the ultimate consignee types listed do not apply or if the ultimate consignee type is unknown, the filer may select “Other” or “Unknown.” The next data element added is the license value, which is a conditional data element. This value will only be required if the shipment contains a licensable commodity. Currently, less than two percent of records filed require a license.

In addition to the two new data elements added to the AES, filers will be required to file in the AES when exporting used self-propelled vehicles. The requirement to file in the AES for all used self-propelled vehicles applies regardless of value or country of destination. Currently, four percent of records filed in the AES are for used self-propelled vehicles. The Census Bureau does not capture statistics for used self-propelled vehicles valued less than $2,500. The Bureau of Transportation Statistics published the national transportation statistics in 2011 and stated that the average cost of a used passenger vehicle car was $8,786. By using these statistics, it could be conjectured that most used vehicles are currently being captured in the AES. However, with the new requirement to file all used self-propelled vehicles, we anticipate that the number of filings will slightly increase. Although additional filings will be required it is critical to capture this information for the purposes of export control under Title 50, U.S.C., Export Administration Act, to detect and prevent the export of certain items by unauthorized parties or to unauthorized destinations or end users.

The Census Bureau will allow the trade community to continue using the current AES until the implementation date identified in the Final Rule. Implementation of the revised FTR is 270 days from the effective date of the Final Rule.

The information collected via the AES shows what is being exported (description and commodity classification number), how much is exported (quantity, shipping weight, and value), how it is being exported (mode of transport, exporting carrier, and whether containerized), from where (state of origin and port of export), to where (port of unloading and country of ultimate destination), and when a commodity is exported (date of exportation). The identification of the U.S. Principal Party in Interest (USPPI) shows who is exporting goods for consumption (control purposes), while the USPPI and/or the forwarding or other agent information provides a contact for verification of the information.

The information is used by the Federal Government and the private sector. The Federal Government uses every data element on the AES record for statistical purposes, export control, and/or to obtain data to avoid taking additional surveys.

Data collected from the AES serves as the official record of export transactions. In addition, the mandatory use of the AES enables the U.S. Government to produce more accurate export statistics. Currently, the mandatory use of the AES allows the Bureau of Industry and Security (BIS) and the CBP to enforce the Export Administration Regulations for the detection and prevention of exports of high technology commodities to unauthorized destinations; the enforcement of the International Traffic in Arms Regulations (ITAR) by the U.S. Department of State; and the validation of the Kimberly Process Certificate for the export of rough diamonds. The Census Bureau delegated the authority to enforce the FTR to the BIS's Office of Export Enforcement along with the Department of Homeland Security's (DHS) CBP and Immigrations and Customs Enforcement (ICE).

Other Federal agencies use these data to develop the components of the merchandise trade figures used in the calculations for the balance of payments and GDP accounts to evaluate the effects of the value of U.S. exports; to plan and examine export promotion programs and agricultural development and assistance programs; and to prepare for and assist in trade negotiations under the General Agreement on Tariffs and Trade. Collection of these data also eliminate the need for conducting additional surveys for the collection of information as the AES shows the relationship of the parties to the export transaction (as required by the Bureau of Economic Analysis). These AES data are also used by the Bureau of Labor Statistics as a source for developing the export price index and by the U.S. Department of Transportation for administering the negotiation of reciprocal arrangements for transportation facilities between the United States and other countries. A collaborative effort amongst the Census Bureau, the National Governors' Association and other data users resulted in the development of export statistics requiring the state of origin to be reported on the AES. The information collected enables state governments to focus activities and resources on fostering exports of the kinds of goods that originate in their states.

Export statistics collected from the AES aid private sector companies, financial institutions, and transportation entities in conducting market analysis and market penetration studies for the development of new markets and market-share strategies. Port authorities, steamship lines, steamship freight conferences, airlines, aircraft manufacturers, and air transport associations use these data for measuring the volume and effect of air or vessel shipments and the need for additional or new types of facilities.

Affected Public: Business or other for-profit.

Frequency: On occasion.

Respondent's Obligation: Mandatory.

Legal Authority: Title 13 U.S.C., Chapter 9, Sections 301-307.

OMB Desk Officer: Brian Harris-Kojetin, (202) 395-7314.

Copies of the above information collection proposal can be obtained by calling or writing Jennifer Jessup, Departmental Paperwork Clearance Officer, (202) 482-0336, Department of Commerce, Room 6616, 14th and Constitution Avenue NW., Washington, DC 20230 (or via the Internet at jjessup@doc.gov).

Written comments and recommendations for the proposed information collection should be sent within 30 days of publication of this notice to Brian Harris-Kojetin, OMB Desk Officer either by fax (202-395-7245) or email (bharrisk@omb.eop.gov).

Dated: March 5, 2013.
Glenna Mickelson,
Management Analyst, Office of the Chief Information Officer.

[FR Doc. 2013-05437 Filed 3-13-13; 8:45 am]

BILLING CODE 3510-07-P